DEPARTMENT OF LABOR

Employee Benefits Security Administration

Advisory Council on Employee Welfare and Pension Benefit Plans; Working Group on a Prudent Investment Process; Notice of Meeting

Pursuant to the authority contained in Section 512 of the Employee Retirement Income Security Act of 1974 (ERISA), 29 U.S.C. 1142, the Working Group assigned by the Advisory Council on Employee Welfare and Pension Benefit Plans to study the issue of a Prudent Investment Process will hold an open public meeting on September 21, 2006.

The session will take place in Room S 4215 A-C, U.S. Department of Labor, 200 Constitution Avenue, NW., Washington, DC 20210. The purpose of the open meeting, which will run from 9 a.m. to approximately 5 p.m., with a one hour break for lunch, is for Working Group members to hear testimony from invited witnesses. The Working Group will study selected issues regarding the prudent investment process for both defined benefit plans and participant directed defined contribution plans. The Working Group will focus on plan asset valuations, soft dollars, and self-directed account plans under ERISA Section 404(c).

Organizations or members of the public wishing to submit a written statement pertaining to the topic may do so by submitting 25 copies on or before September 13, 2006 to Larry Good, Executive Secretary, ERISA Advisory Council, U.S. Department of Labor, Suite N-5623, 200 Constitution Avenue, NW., Washington, DC 20210. Statements also may be submitted electronically to good.larry@dol.gov. Statements received on or before September 13, 2006 will be included in the record of the meeting. Individuals or representatives of organizations wishing to address the Working Group should forward their requests to the Executive Secretary or telephone (202) 693-8668. Oral presentations will be limited to 20 minutes, time permitting, but an extended statement may be submitted for the record. Individuals with disabilities, who need special accommodations, should contact Larry Good by September 13, 2006 at the address indicated.

Signed at Washington, DC this 28th day of August, 2006.
Ann L. Combs,
Assistant Secretary, Employee Benefits Security Administration.

[FR Doc. E6-14582 Filed 8-31-06; 8:45 am]

BILLING CODE 4510-29-P